DEPARTMENT OF COMMERCE

National Oceanic and Atmospheric Administration

50 CFR Part 665

[Docket No. 240220-0053240]

RIN 0648-BM01

Pacific Island Fisheries; Withdrawal of Proposed Rule; Catch and Retention Limits for Striped Marlin in the Western and Central Pacific Ocean North of the Equator

AGENCY: National Marine Fisheries Service (NMFS), National Oceanic and Atmospheric Administration (NOAA), Commerce.

ACTION: Proposed rule; withdrawal.

SUMMARY: NMFS withdraws the proposed rule for “Catch and Retention Limits for Striped Marlin in the Western and Central North Pacific Ocean North of the Equator” that published in the Federal Register on February 26, 2024. This proposed rule was intended to satisfy Magnuson-Stevens Fishery Conservation and Management Act (Magnuson-Stevens Act) obligations to address U.S. fishing vessels' relative impact on this internationally managed stock that, based on a prior stock assessment and domestic status determination criteria, NMFS determined was overfished. NMFS is now withdrawing the proposed rule because NMFS has determined the stock is no longer overfished, not approaching an overfished condition, and is rebuilding, based on a more recent assessment. Thus, the factual and legal bases for the proposed rule no longer apply.

DATES: The proposed rule published February 26, 2024 (89 FR 14036) is withdrawn as of November 5, 2024.

ADDRESSES: Copies of the Fishery Ecosystem Plan for Pelagic Fisheries of the Western Pacific (Pelagic FEP) are available from the Western Pacific Fishery Management Council (Council), 1164 Bishop St., Suite 1400, Honolulu, HI 96813, tel. 808-522-8220, fax 808-522-8226, or https://www.wpcouncil.org.

Copies of other supporting documents for this action are available from https://www.regulations.gov/docket/NOAA-NMFS-2022-0148, or from Sarah Malloy, Acting Regional Administrator, NMFS Pacific Islands Regional Office (PIRO), 1845 Wasp Blvd., Bldg. 176, Honolulu, HI 96818.

FOR FURTHER INFORMATION CONTACT: David O'Brien, PIRO Sustainable Fisheries, 808-725-5038.

SUPPLEMENTARY INFORMATION:

I. How are striped marlin managed?

NMFS and the Council manage U.S. commercial fishing for Pelagic Management Unit Species (PMUS), such as striped marlin (Kajikia audax), under the Pelagic FEP and implementing Federal regulations. Although the Pelagic FEP indicates that PMUS have statutory exemptions from annual catch limits (ACLs), the Magnuson-Stevens Act authorizes the Council to determine ACLs or other catch limits for PMUS if such actions are deemed appropriate and consistent with the Magnuson-Stevens Act and other statutory mandates.

Striped marlin are an internationally managed species often caught incidentally in fisheries primarily targeting tuna, but are retained due to their economic value. Magnuson-Stevens Act section 304(i) mandates that when the Secretary of Commerce (Secretary) determines a fishery is overfished or approaching a condition of being overfished due to excessive international fishing pressure, and if there are no management measures to end overfishing under an international agreement to which the U.S. is a party, the Council shall recommend domestic regulations to address the relative impact of U.S. fishing vessels on the stock.

As described in the proposed rule, the Secretary determined the stock was overfished in 2020 and informed the Council of its requirements under Magnuson-Stevens Act section 304(i). The Council recommended NMFS implement an annual catch limit of 457 metric tons (t) for Western and Central North Pacific Ocean (WCNPO) striped marlin caught in all U.S. fisheries and a retention limit of 443 t for vessels with Hawaii limited entry longline permits. If the retention limit were projected to be reached, retention of striped marlin by Hawaii longline vessels would be prohibited for the remainder of the calendar year. Additional background information on this action is in the proposed rule published in the Federal Register on February 26, 2024 (89 FR 14036); we do not repeat it here.

II. Why is NMFS withdrawing the proposed rule?

Results of a 2023 stock assessment for WCNPO striped marlin, considered relative to domestic status determination criteria in the FEP, indicate the stock is experiencing overfishing but is no longer overfished. In addition, the 2023 assessment estimated spawning stock biomass (SSB) in the terminal year of the assessment (SSB2020 = 1,696 t) had increased by nearly 73 percent from the estimate from the terminal year in the 2019 assessment (SSB2017 = 981 t) indicating the stock is not approaching a condition of being overfished.

On May 20, 2024, the NMFS Pacific Islands Fisheries Science Center and the NMFS Southwest Fisheries Science Center concluded that the results of the 2023 stock assessment were the best available scientific information for judging the status of the stock and for use in management, thus superseding the prior 2019 assessment.

On September 5, 2024, considering the 2023 assessment and status determination criteria defined in the Pelagic FEP, the Secretary determined that the status of WCNPO striped marlin had changed from overfished to not overfished-rebuilding. The stock remains subject to overfishing.

We published the proposed rule for catch and retention limits to address the relative impact of U.S. fishing vessels on the WCNPO striped marlin stock requirement in Magnuson-Stevens Act section 304(i) when the stock had been determined to be overfished. The stock status no longer meets the statutory criteria of overfished or approaching an overfished condition; therefore, the action cannot proceed. For this reason, NMFS is withdrawing the proposed rule.

III. What are the next steps?

As described in the proposed rule, this action on its own would not have ended overfishing on the stock, which must be addressed at the international level. International negotiations at the WCPFC have resulted in adoption of a rebuilding plan for this stock that requires rebuilding to 20 percent of unfished biomass with at least 60 percent probability by 2034. The rebuilding plan currently does not include catch limits, although it acknowledges that catch reductions by all member nations are required to achieve the rebuilding target.

The U.S. delegation has brought recommendations to the WCPFC and continues to pursue revised international measures for WCNPO striped marlin. We anticipate the WCPFC at its upcoming November 2024 meeting or a subsequent meeting will update international management for the stock, including updated catch limits for U.S. fisheries. If the WCPFC takes such action in November 2024, we intend to implement consistent domestic measures and/or catch limits. If the WCPFC does not act in November 2024, we intend to implement the 457 t domestic catch limit for WCNPO striped marlin as prescribed under the prior WCPFC Conservation and Management Measure 2010-01.

Dated: October 29, 2024.
Samuel D. Rauch, III,
Deputy Assistant Administrator for Regulatory Programs, National Marine Fisheries Service.

[FR Doc. 2024-25676 Filed 11-4-24; 8:45 am]

BILLING CODE 3510-22-P